ENVIRONMENTAL PROTECTION AGENCY

[FRL-10023-17-Region 10]

Modification of NPDES General Permit for Offshore Seafood Processors in Alaska (AKG524000)

AGENCY: Environmental Protection Agency (EPA).

ACTION: Final modification of NPDES general permit.

SUMMARY: The Director, Water Division, Environmental Protection Agency (EPA) Region 10, is modifying a National Pollutant Discharge Elimination System (NPDES) General Permit for offshore seafood processors operating in federal waters off the coast of Alaska. The permit, which became effective on July 17, 2019, authorizes discharges of seafood processing waste from vessels that: discharge at least 3 nautical miles (NM) or greater from the Alaska shore; and, which engage in the processing of fresh, frozen, canned, smoked, salted or pickled seafood, the processing of mince, or the processing of meal, paste and other secondary by-products. On March 30, 2020,the Freezer Longline Coalition (FLC) requested that EPA modify the permit to allow for a currently-prohibited seasonal discharge (between June 10 and December 31, the fleet's “B Season”) within 1 NM of wintering critical habitat (Unit 5) for the spectacled eider. EPA has decided to modify the permit to allow for seasonal discharge (between June 10 and December 31) within 1 NM of wintering critical habitat (Unit 5) for the spectacled eider (Part III.B.7 of the modified general permit). All other conditions of the permit remain unchanged. Between March 1 and March 31, 2021, EPA accepted comments on the proposed modification. Only the conditions subject to modification were reopened for public comment. EPA received a single comment letter from the FLC. The comments were non-significant and supported the proposed modification; therefore, EPA is not required to prepare a Response to Comments document.

DATES: The issuance date of the modified General Permit is May 3, 2021. The modified General Permit will become effective June 2, 2021.

ADDRESSES: Permit documents may be found on the EPA Region 10 website at:

https://www.epa.gov/npdes-permits/npdes-general-permit-offshore-seafood-processors-alaska.

FOR FURTHER INFORMATION CONTACT: Copies of the modified General Permit and Fact Sheet are also available upon request. Requests may be made to Audrey Washington at (206) 553-0523 or to Sally Goodman at (206) 553-0782. Requests may also be electronically mailed to: washington.audrey@epa.gov or goodman.sally@epa.gov.

SUPPLEMENTARY INFORMATION:

I. General Information

There are currently 73 vessel operators authorized to discharge under the permit. In October 2019, FLC reported to EPA that within the past two fishing seasons, sea ice in the Bering Sea had not reached as far south, formed later in the year, and persisted for a shorter duration, and that as a result, a large percentage of the Pacific cod population in the Bering Sea have migrated further north than previously found/harvested, including areas near and within spectacled eider wintering habitat. While FLC raised the issue of Pacific cod migrating into more northern reaches of the Bering Sea as a primary motivation in their permit modification request, the permit modification allowing seasonal discharge within 1 NM of Unit 5 applies to all vessels covered under EPA's General Permit, which include both hook and line (“longline”) and trawl catcher processors, and is not be conditioned upon targeted species. The At-Sea Processors Association, which represents trawl catcher processor vessels, has indicated that up to 12 pelagic trawlers could potentially target pollock within 1 NM of Unit 5.

EPA conducted new analyses to identify impacts to spectacled eiders and their critical habitat that could result from the modification, revised the previously concurred-upon Biological Evaluation (BE), and on July 9, 2020, requested formal consultation with USFWS under 50 CFR part 402. New analyses conducted in the BE led EPA to change its previous determination from not likely to adversely affect the federally threatened spectacled eider or its critical habitat to likely to adversely affect the species or critical habitat. USFWS concurred on the EPA's determination that the Permit actions are likely to adversely affect species listed under the Endangered Species Act or designated critical habitat. The Biological Opinion, received on March 8, 2021, includes mitigations to minimize take and impact on species and habitat, which are also included in the Permit. They are: permittees must create a Best Management Practices Plan; discharges are not authorized in certain protected areas and habitats; vessels must be moving while discharging; permittees must conduct daily sea surface monitoring; and, EPA will use the information gathered from visual monitoring in evaluation during the next permit cycle.

II. Other Legal Requirements

This action is not a significant regulatory action and was therefore not submitted to the Office of Management and Budget (OMB) for review.

Daniel D. Opalski,
Director, Water Division, Region 10.

[FR Doc. 2021-09193 Filed 4-30-21; 8:45 am]

BILLING CODE 6560-50-P